DEPARTMENT OF THE INTERIOR

Fish and Wildlife Service

50 CFR Part 17

[Docket No. FWS-R5-ES-2011-0024; 4500030113]

RIN 1018-AY98

Endangered and Threatened Wildlife and Plants; Endangered Species Status for the Northern Long-Eared Bat

AGENCY: Fish and Wildlife Service, Interior.

ACTION: Proposed rule; reopening of comment period.

SUMMARY: We, the U.S. Fish and Wildlife Service (Service), announce the reopening of the comment period for our October 2, 2013, proposed rule to list the northern long-eared bat (Myotis septentrionalis) as an endangered species under the Endangered Species Act of 1973, as amended (Act). We are taking this action to notify the public of new information that was supplied to us by, or on behalf of, State agencies within the range of the species. This reopening of the comment period will allow the public to provide comments on our proposed rule in light of that new information. We also are notifying the public that we have scheduled an informational meeting followed by a public hearing on the proposed rule. Comments previously submitted on the proposal need not be resubmitted, as they are already incorporated into the public record and will be fully considered in our final determination.

DATES: The comment period for the proposed rule published October 2, 2013 (78 FR 61046), is reopened. Written comments: We request that comments on the proposal be submitted on or before December 18, 2014. Comments submitted electronically using the Federal eRulemaking Portal (see ADDRESSES section, below) must be received by 11:59 p.m. Eastern Time on the closing date.

Public hearing: We will hold an informational meeting followed by a public hearing in Sundance, Wyoming, on December 2, 2014. The informational meeting will be held from 6:00 p.m. to 7:00 p.m., followed by a public hearing from 7:00 p.m. to 8:00 p.m. Please direct all requests for interpreters, close captioning, or other accommodation to the Twin Cities Ecological Services Field Office (see FOR FURTHER INFORMATION CONTACT) by 5:00 p.m. on November 15, 2014.

ADDRESSES: Document availability: You may obtain copies of the proposed rule and the information provided to the Service by the State agencies on the Internet at http://www.regulations.gov at Docket No. FWS-R5-ES-2011-0024, or by mail from the Twin Cities Ecological Services Field Office (see FOR FURTHER INFORMATION CONTACT).

Written comments: You may submit comments by one of the following methods:

(1) Electronically: Go to the Federal eRulemaking Portal: http://www.regulations.gov. In the Search box, enter Docket No. FWS-R5-ES-2011-0024, which is the docket number for this rulemaking. You may submit a comment by clicking on “Comment Now!” Please ensure that you have found the correct rulemaking before submitting your comment.

(2) By hard copy: Submit by U.S. mail or hand-delivery to: Public Comments Processing, Attn: FWS-R5-ES-2011-0024; Division of Policy and Directives Management; U.S. Fish and Wildlife Service, MS: BPHC; 5275 Leesburg Pike, Falls Church, VA 22041-3803.

We will post all comments on http://www.regulations.gov. This generally means that we will post any personal information you provide us (see the Information Requested section, below, for more information).

Public hearing: We will hold a public hearing in Sundance, Wyoming in the Community Room at the Crook County Courthouse Basement, 309 Cleveland Street.

FOR FURTHER INFORMATION CONTACT: Peter Fasbender, Field Supervisor, U.S. Fish and Wildlife Service, Twin Cities Ecological Services Field Office, 4101 American Boulevard East, Bloomington, MN 55425; telephone 612-725-3548; or facsimile 612-725-3609. If you use a telecommunications device for the deaf (TDD), please call the Federal Information Relay Service (FIRS) at 800-877-8339.

SUPPLEMENTARY INFORMATION:

Information Requested

We intend that any final action resulting from the proposed rule will be based on the best scientific and commercial data available and be as accurate and as effective as possible. Therefore, we request comments or information from other concerned Federal and State agencies, the scientific community, or any other interested party concerning the proposed rule. We particularly seek comments concerning:

(1) The northern long-eared bat's biology, range, and population trends, including:

(a) Habitat requirements for feeding, breeding, and sheltering;

(b) Genetics and taxonomy;

(c) Historical and current range, including distribution patterns;

(d) Historical and current population levels, and current and projected trends; and

(e) Past and ongoing conservation measures for the species, its habitat, or both.

(2) Any information on the biological or ecological requirements of the northern long-eared bat, and ongoing conservation measures for the species and its habitat.

(3) Biological, commercial trade, or other relevant data concerning any threats (or lack thereof) to this species and regulations that may be addressing those threats.

(4) Current or planned activities in the areas occupied by the species and possible impacts of these activities on this species.

(5) Additional information regarding the threats to the northern long-eared bat under the five listing factors, which are:

(a) The present or threatened destruction, modification, or curtailment of its habitat or range;

(b) Overutilization for commercial, recreational, scientific, or educational purposes;

(c) Disease or predation;

(d) The inadequacy of existing regulatory mechanisms; and

(e) Other natural or manmade factors affecting its continued existence.

(6) The reasons why areas should or should not be designated as critical habitat as provided by section 4 of the Act (16 U.S.C. 1531 et seq.), including the possible risks or benefits of designating critical habitat, including risks associated with publication of maps designating any area on which this species may be located, now or in the future, as critical habitat.

(7) The following specific information on:

(a) The amount and distribution of habitat for the northern long-eared bat;

(b) What areas, that are currently occupied and that contain the physical and biological features essential to the conservation of this species, should be included in a critical habitat designation and why;

(c) Special management considerations or protection that may be needed for the essential features in potential critical habitat areas, including managing for the potential effects of climate change;

(d) What areas not occupied at the time of listing are essential for the conservation of this species and why;

(e) The amount of forest removal occurring within known summer habitat for this species;

(f) Information on summer roost habitat requirements that are essential for the conservation of the species and why; and

(g) Information on the features and requirements of the species' winter habitat (hibernacula).

(8) Information on the projected and reasonably likely impacts of changing environmental conditions resulting from climate change on the species and its habitat.

(9) Information on the data and reports submitted to the Service by affected States and how that information relates to our determination of whether the northern long-eared bat is an endangered or a threatened species.

If you previously submitted comments or information on the October 2, 2013, proposed rule (78 FR 61046), please do not resubmit them. We have incorporated them into the public record, and we will fully consider them in our final determination. Our final determination concerning the proposed rulemaking will take into consideration all written comments and any information we receive.

Please note that submissions merely stating support for or opposition to the action under consideration without providing supporting information, although noted, will not be considered in making a determination, as section 4(b)(1)(A) of the Act directs that determinations as to whether any species is an endangered or threatened species must be made “solely on the basis of the best scientific and commercial data available.”

You may submit your comments and materials concerning the proposed rule by one of the methods listed in ADDRESSES. We request that you send comments only by the methods described in the ADDRESSES section. If you submit information via http://www.regulations.gov, your entire submission—including any personal identifying information—will be posted on the Web site. If your submission is made via a hardcopy that includes personal identifying information, you may request at the top of your document that we withhold this information from public review. However, we cannot guarantee that we will be able to do so. We will post all hardcopy submissions on http://www.regulations.gov. Please include sufficient information with your comments to allow us to verify any scientific or commercial information you include.

Comments and materials we receive, as well as supporting documentation we used in preparing the proposed rule, will be available for public inspection on http://www.regulations.gov, or by appointment, during normal business hours, at the U.S. Fish and Wildlife Service, Twin Cities Ecological Services Field Office (see FOR FURTHER INFORMATION CONTACT). You may obtain copies of the proposed rule on the Internet at http://www.regulations.gov at Docket No. FWS-R5-ES-2011-0024, or by mail from U.S. Fish and Wildlife Service, Twin Cities Ecological Services Field Office (see FOR FURTHER INFORMATION CONTACT).

Background

On October 2, 2013, we published a proposed rule (78 FR 61046) to list the northern long-eared bat as an endangered species under the Act. That proposal had a 60-day comment period, ending December 2, 2013. On December 2, 2013, we extended the proposal's comment period for an additional 30 days, ending January 2, 2014 (78 FR 72058). On June 30, 2014, we announced a 6-month extension of the final determination of whether to list the northern long-eared bat as an endangered species, and we reopened the comment period on the proposal for 60 days, ending August 29, 2014 (79 FR 36698). We will publish a listing determination for the northern long-eared bat on or before April 2, 2015. For a description of previous Federal actions concerning the northern long-eared bat, please refer to the October 2, 2013, proposed listing rule (78 FR 61046).

Since the publication of the 6-month extension (79 FR 36698, June 30, 2014), we have received additional information from multiple State agencies within the range of the northern long-eared bat. We are reopening the comment period on our proposal to list the northern long-eared bat as an endangered species for 30 days (see DATES) to allow the public an opportunity to review that information and provide comment on our proposal in light of that new information.

Authority: The authority for this action is the Endangered Species Act of 1973, as amended (16 U.S.C. 1531 et seq.).

Dated: November 12, 2014.
Stephen Guertin,
Acting Director, U.S. Fish and Wildlife Service.

[FR Doc. 2014-27407 Filed 11-17-14; 8:45 am]

BILLING CODE 4310-55-P